NATIONAL INDIAN GAMING COMMISSION

2014 Preliminary Fee Rate and Fingerprint Fees

AGENCY: National Indian Gaming Commission.

ACTION: Notice.

SUMMARY: Notice is hereby given, pursuant to 25 CFR 514.2, that the National Indian Gaming Commission has adopted its 2014 preliminary annual fee rates of 0.00% for tier 1 and 0.072% (.00072) for tier 2. These rates have not changed since 2013 and shall apply to all assessable gross revenues from each gaming operation under the jurisdiction of the Commission. If a tribe has a certificate of self-regulation under 25 CFR part 518, the 2014 preliminary fee rate on Class II revenues shall be one-half of the annual fee rate, which is 0.036% (.00036).

Pursuant to 25 CFR 514.16, the National Indian Gaming Commission has also adopted its fingerprint processing fees of $22 per card.

Both the preliminary fee rate and fingerprint fees being adopted here are effective March 1st, 2014 and will remain in effect until new rates are adopted.

FOR FURTHER INFORMATION CONTACT: Yvonne Lee, National Indian Gaming Commission, 1441 L Street NW., Suite 9100, Washington, DC 20005; telephone (202) 632-7003; fax (202) 632-7066.

SUPPLEMENTARY INFORMATION: The Indian Gaming Regulatory Act (IGRA) established the National Indian Gaming Commission, which is charged with, among other things, regulating gaming on Indian lands.

Commission regulations (25 CFR part 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self administer the provisions of these regulations, and report and pay any fees that are due to the Commission. As noted above, if a tribe has a certificate of self-regulation under 25 CFR part 518 the 2014 preliminary fee rate on Class II revenues shall be one-half of the annual fee rate, which is 0.036% (.00036).

Pursuant to 25 CFR part 514, the Commission must also review annually the costs involved in processing fingerprint cards and set a fee based on fees charged by the Federal Bureau of Investigation and costs incurred by the Commission. Commission costs include Commission personnel, supplies, equipment costs, and postage to submit the results to the requesting tribe. Based on that review, the Commission hereby sets the 2014 fingerprint processing fee at $22 per card.

Dated: February 24, 2014.
Jonodev O. Chaudhuri,
Acting Chairman.
Dated: February 24, 2014.
Daniel J. Little,
Associate Commissioner.

[FR Doc. 2014-04317 Filed 2-26-14; 8:45 am]

BILLING CODE 7565-01-P